DEPARTMENT OF COMMERCE

International Trade Administration

[C-533-909]

Barium Chloride From India: Final Affirmative Countervailing Duty Determination

AGENCY: Enforcement and Compliance, International Trade Administration, Department of Commerce.

SUMMARY: The U.S. Department of Commerce (Commerce) determines that countervailable subsidies are being provided to producers and exporters of barium chloride from India.

DATES: Applicable January 6, 2023.

FOR FURTHER INFORMATION CONTACT: Tyler Weinhold or Harrison Tanchuck, AD/CVD Operations, Office VI, Enforcement and Compliance, International Trade Administration, U.S. Department of Commerce, 1401 Constitution Avenue NW, Washington, DC 20230; telephone: (202) 482-1121 or (202) 482-7421, respectively.

SUPPLEMENTARY INFORMATION:

Background

On June 17, 2022, Commerce published the Preliminary Determination in the Federal Register.¹ For a complete description of the events that followed the Preliminary Determination, see the Issues and Decision Memorandum.² The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

¹ See Barium Chloride from India: Preliminary Affirmative Countervailing Duty Determination and Alignment of Final Determination with Final Antidumping Duty Determination, 87 FR 36460 (June 17, 2022) (Preliminary Determination), and accompanying Preliminary Decision Memorandum.

² See Memorandum, “Issues and Decision Memorandum for the Final Determination of the Countervailing Duty Investigation of Barium Chloride from India,” dated concurrently with, and hereby adopted by, this notice (Issues and Decision Memorandum).

Period of Investigation

The period of investigation is January 1, 2021, through December 31, 2021.

Scope of the Investigation

The product covered by this investigation is barium chloride from India. For a complete description of the scope of this investigation, see Appendix I.

Scope Comments

On July 6, 2022, Commerce issued the Preliminary Scope Memorandum.³ Commerce received no comments from interested parties on the Preliminary Scope Memorandum. Thus, Commerce made no changes to the scope of this investigation since the Preliminary Determination.

³ See Memorandum, “Antidumping and Countervailing Duty Investigations of Barium Chloride from India: Preliminary Scope Decision Memorandum,” dated July 6, 2022 (Preliminary Scope Memorandum).

Analysis of Subsidy Programs and Comments Received

The subsidy programs under investigation, and the issues raised in the case and rebuttal briefs by parties in this investigation, are discussed in the Issues and Decision Memorandum. For a list of the issues raised by parties, and to which we responded in the Issues and Decision Memorandum, see Appendix II.

Methodology

Commerce conducted this investigation in accordance with section 701 of the Tariff Act of 1930, as amended (the Act). For each of the subsidy programs found countervailable, Commerce determines that there is a subsidy, i.e., a financial contribution by an “authority” that gives rise to a benefit to the recipient, and that the subsidy is specific.⁴ For a full description of the methodology underlying our final determination, see the Issues and Decision Memorandum.

⁴ See sections 771(5)(B) and (D) of the Act regarding financial contribution; section 771(5)(E) of the Act regarding benefit; and section 771(5A) of the Act regarding specificity.

Verification

Commerce was unable to conduct on-site verification of the information relied upon in making its final determination in this investigation. However, we conducted virtual verification, via Webex, to verify the information relied upon in making this final determination, in accordance with section 782(i) of the Act.⁵

⁵ See Memoranda, “Verification of the Responses of the Government of India,” dated November 8, 2022; and “Verification of the Responses of Chaitanya Chemicals and its Affiliates,” dated November 8, 2022.

Changes Since the Preliminary Determination

Based on our review and analysis of the information received during verification and comments received from parties, for this final determination, we made certain changes to the countervailable subsidy rate calculations for Chaitanya Chemicals and for all other producers/exporters. For a discussion of these changes, see the Issues and Decision Memorandum.

All-Others Rate

We continue to determine the all-others rate using the individual estimated countervailable subsidy rate determined for Chaitanya Chemicals, the only individually examined producer/exporter in this investigation, in accordance with section 705(c)(5)(A)(i) of the Act.

Final Determination

Commerce determines that the following estimated net countervailable subsidy rates exist:

Company | Subsidy rate (percent ad valorem)
Chaitanya Chemicals ⁶ | 23.57
All Others | 23.57

Disclosure

⁶ As discussed in the Issues and Decision Memorandum, Commerce has found the following company to be cross-owned with Chaitanya Chemicals: Chaitanya Barium (India) Private Limited.

Commerce intends to disclose its calculations performed to interested parties in this final determination within five days of any public announcement, or if there is no public announcement, within five days of the publication of this notice, in accordance with 19 CFR 351.224(b).

Continuation of Suspension of Liquidation

As a result of our Preliminary Determination, and pursuant to sections 703(d)(1)(B) and (d)(2) of the Act, Commerce instructed U.S. Customs and Border Protection (CBP) to collect cash deposits and suspend liquidation of entries of subject merchandise as described in the scope of the investigation section entered, or withdrawn from warehouse, for consumption on or after June 17, 2022, the date of publication of the Preliminary Determination in the Federal Register. In accordance with section 703(d) of the Act, we will instruct CBP to discontinue the suspension of liquidation of all entries of subject merchandise entered or withdrawn from warehouse, on or after October 15, 2022, but to continue the suspension of liquidation of all entries of subject merchandise on or after June 17, and on or before October 14, 2022.

If the U.S. International Trade Commission (ITC) issues a final affirmative injury determination, we will issue a countervailing duty order, reinstate the suspension of liquidation under section 706(a) of the Act, and require a cash deposit of estimated countervailing duties for such entries of subject merchandise in the amounts indicated above, in accordance with section 706(a) of the Act. If the ITC determines that material injury, or threat of material injury, does not exist, this proceeding will be terminated, and all estimated duties deposited or securities posted as a result of the suspension of liquidation will be refunded or canceled.

ITC Notification

In accordance with section 705(d) of the Act, Commerce will notify the ITC of its final affirmative determination that countervailable subsidies are being provided to producers and exporters of barium chloride from India. As Commerce's final determination is affirmative, in accordance with section 705(b) of the Act, the ITC will determine, within 45 days, whether the domestic industry in the United States is materially injured, or threatened with material injury, by reason of imports of barium chloride from India. In addition, we are making available to the ITC all non-privileged and non-proprietary information related to this investigation. We will allow the ITC access to all privileged and business proprietary information in our files, provided the ITC confirms that it will not disclose such information, either publicly or under an administrative protective order (APO), without the written consent of the Assistant Secretary for Enforcement and Compliance.

Administrative Protective Order

In the event that the ITC issues a final negative injury determination, this notice will serve as the only reminder to parties subject to the APO of their responsibility concerning the destruction of proprietary information disclosed under APO, in accordance with 19 CFR 351.305(a)(3). Timely written notification of the return/destruction of APO materials or conversion to judicial protective order is hereby requested. Failure to comply with the regulations and terms of an APO is a violation which is subject to sanction.

Notification to Interested Parties

This determination is issued and published pursuant to sections 705(d) and 777(i) of the Act, and 19 CFR 351.210(c).

Dated: December 30, 2022.
Lisa W. Wang,
Assistant Secretary for Enforcement and Compliance.

Appendix I

Scope of the Investigation

The merchandise covered by this investigation is barium chloride, a chemical compound having the formulas BaCl2 or BaCl2-2H2O, currently classifiable under subheading 2827.39.4500 of the Harmonized Tariff Schedule of the United States (HTSUS). Although the HTSUS subheading is provided for convenience and customs purposes, the written description of the scope of this investigation is dispositive.

Appendix II

List of Topics Discussed in the Issues and Decision Memorandum

I. Summary

II. Background

III. Scope of the Investigation

IV. Use of Facts Otherwise Available and Adverse Inferences

V. Subsidies Valuation

VI. Analysis of Programs

VII. Analysis of Comments

Comment 1: Whether Andhra Pradesh Mineral Development Corporation (APMDC) is an Authority Providing a Financial Contribution

Comment 2: Whether the Provision of Barytes for Less Than Adequate Remuneration (LTAR) Program is Specific

Comment 3: Whether the Barytes Market in India is Distorted

Comment 4: Which Barytes Value Sources Should Commerce Use to Construct a Tier Two Benchmark

Comment 5: Which Ocean Freight Values Should Commerce Use to Construct a Tier Two Benchmark

Comment 6: Which Import Duties Should Commerce Use to Construct a Tier Two Benchmark

Comment 7: Which Brokerage and Handling Benchmark Calculations Should Commerce Use to Construct the Tier II Benchmark

Comment 8: Whether There Were Procedural Irregularities in the Post-Preliminary Analysis that Require an Adjustment to the Preliminary Determination

Comment 9: Whether Subsidies Received by Barium India Should be Attributed to Chaitanya

Comment 10: Whether Commerce Used the Incorrect Figure to Calculate a Benefit for CBI's “Investment Subsidy” of 15 Percent Reimbursement for Investments Under Industrial Development Policy (IDP) 2020-2023, Industrial Investment Promotion Policy (IIPP) 2010-2015, or IDP 2015-2020 Program

Comment 11: Whether the Duty Drawback (DDB) Program is Countervailable

Comment 12: Whether Three Programs Under Investigation Are Specific

Comment 13: Whether Chaitanya Received Benefits from the Merchandise Exports from India Scheme (MEIS) during the Period of Investigation (POI)

Comment 14: Whether Commerce Should Continue to Apply Adverse Facts Available (AFA) to the “Reimbursement of Interest Subsidy” Under IDP 2020-2023, IIPP 2010-2015, or IDP 2015-2020 Program

VIII. Recommendation

[FR Doc. 2023-00086 Filed 1-5-23; 8:45 am]

BILLING CODE 3510-DS-P